DEPARTMENT OF THE TREASURY

Submission for OMB Review; Comment Request

The Department of Treasury, on behalf of itself and the Consumer Financial Protection Bureau (CFPB), will submit the following public information collection requirement to OMB for review and clearance under the Paperwork Reduction Act of 1995, Public Law 104-13 on or after the date of publication of this notice. A copy of the submission may be obtained by calling the agency contact listed below. Comments regarding this information collection should be addressed to the OMB reviewer listed and to the Treasury Department Clearance Officer, Department of the Treasury, 1750 Pennsylvania Avenue, NW., Suite 11010, Washington, DC 20220.

Dates: Written comments should be received on or before May 5, 2011 to be assured of consideration.

OMB Number: 1505-XXXX.

Type of Review: Emergency Clearance Request.

Title: Qualitative Testing of Integrated Mortgage Loan Disclosure Forms.

Description: The Dodd-Frank Wall Street Reform and Consumer Protection Act, Public Law 111-203, Title X, requires CFPB to develop model forms that will integrate separate disclosures concerning residential mortgage loans that are required under the Truth in Lending Act and Real Estate Settlement Procedures Act. The CFPB implementation team will collect data, including through interviews and the internet, to inform its design and development of the mandated integrated disclosure and its implementation. The information collected through the one-on-one cognitive interviews and the internet will inform the disclosure form's design and content, using an iterative process to improve the draft form to make it easier for consumers to use the document to identify the terms of the loan being offered to them and use that information to compare among different loan products.

The data collection will include:

• Consent forms that will be used to obtain the consent of participants in the cognitive interviewing;

• Participant Questionnaires to obtain demographic information about the participants;

• Interview protocols for both consumers and lenders/brokers; and

• Tools that seek input from a larger community through the internet.

The core objective of the data collection is to help refine specific features of the content or design of the form to maximize communication effectiveness while minimizing compliance burden, specifically by:

• Evaluating one or more draft disclosure forms through iterative qualitative testing with consumers and lenders/brokers, including observation of consumers' usage of the disclosure, their understanding of the contents, and the choices they make.

• Collecting supplementary feedback through the internet from consumers, industry, housing counselors, and other interested parties regarding the draft disclosure(s).

The qualitative testing is focused on the purposes of the integrated disclosure to:

• Improve consumer understanding by better disclosing risks and costs so consumers can choose the home loans that best meet their needs;

• Enable “shopping” in terms of comparing loan products and loan offers; and

• Facilitate compliance and ease implementation for industry.

The CFPB implementation team plans to test at six sites in five rounds to allow for changes to the disclosure between rounds. Because consumers are not the only ones who will interact with the loan disclosure, the testing plan includes one-on-one cognitive testing with brokers and lenders to evaluate the usefulness of the form, any potential areas of confusion, and potential implementation and usability challenges.

Respondents: Individuals, businesses or other for-profit institutions.

Estimated Total Reporting Burden:

Screening Process:

Total number of potential participants to be screened: 156 individuals.

Estimated time to complete screening: 10 minutes.

Estimated participant screening burden: 26 hours (156 × 10/60).

Estimated number of participants: 54 individuals.

Time to conduct study: 90 minutes.

Estimated travel time to and from site: 30 minutes.

Estimated participant burden: 108 hours (54 × 120/60).

Estimated number of floaters: 24.

Time to conduct study: 180 minutes.

Estimated travel time to and from site: 30 minutes.

Estimated floater burden: 84 hours (24 × 210/60).

Total estimated participation burden: 192 hours.

Total Burden English interviews (screening and study participation) = 218 hours (26 + 192)

Spanish cognitive interviews:

Total number of potential participants screened: 74 individuals.

Estimated time to complete screening: 10 minutes.

Estimated participant screening burden: 12 hours (74 × 10/60).

Estimated number of participants: 25 individuals.

Time to conduct study: 90 minutes.

Estimated travel time to and from site: 30 minutes.

Estimated participant burden: 50 hours (25 × 120/60).

Estimated number of floaters: 10.

Time to conduct study: 180 minutes.

Estimated travel time to and from site: 30 minutes.

Estimated floater burden: 35 hours (10 × 210/60).

Total estimated participation burden: 85 hours.

Total Burden Spanish interviews (screening and study participation) = 97 hours (12 + 85)

Social Media Outreach

Estimated number of participants at each opportunity to provide input = 5000.

Time to provide input = 5 minutes.

Estimated participation burden: 417 hours (5 × 5,000/60).

Opportunities for structured input = 3.

Total estimated participation burden = 1,251 hours (417 × 3).

Estimated Maximum Burden: 1,566 hours (218 + 97 + 1,251)

Comments are invited on: (a) Whether the collection of information shall have practical utility; (b) the accuracy of the agency's estimate of the burden of the collection of information; (c) ways to enhance the quality, utility, and clarity of the information to be collected; (d) ways to minimize the burden of the collection of information on respondents, including through the use of automated collection techniques on other forms of information technology; and (e) estimates of capital or start-up costs and cost of operation, maintenance, and purchase of services to provide information. All comments will be a matter of public record.

Agency Contact: Pamela Blumenthal, CFPB implementation team, 1801 L Street, NW., Washington, DC 20036; (202) 435-7167.

OMB Reviewer: Shagufta Ahmed, Office of Management and Budget, New Executive Office Building, Room 10235, Washington, DC 20503; (202) 395-7873.

Dawn D. Wolfgang,
Treasury PRA Clearance Officer.

[FR Doc. 2011-8057 Filed 4-4-11; 8:45 am]

BILLING CODE 4810-25-P